DEPARTMENT OF HOMELAND SECURITY

United States Coast Guard

[Docket No. USCG-2013-0194]

Navigation Safety Advisory Council; Meeting

AGENCY: United States Coast Guard, DHS.

ACTION: Notice of Federal Advisory Committee meeting: correction.

SUMMARY: The Navigation Safety Advisory Council (NAVSAC) will meet April 10-11, 2013, in Arlington, Virginia to discuss matters relating to maritime collisions, rammings, groundings; Inland and International Rules of the Road; navigation regulations and equipment; routing measures; marine information; diving safety; and aids to navigation systems. This notice corrects the previous notice to add an explanation for why 15-days advance notice was not given.

DATES: NAVSAC will meet Wednesday, April 10, 2013, from 8 a.m. to 5 p.m., and Thursday, April 11, 2013, from 8 a.m. to 5 p.m. Please note that the meeting may close early if the committee has completed its business. Pre-registration and written comments are due April 1, 2013.

ADDRESSES: The meeting will be held at the Navy League Building, Coast Guard Recruiting Command, 5th floor conference room, 2300 Wilson Boulevard, Suite 500, Arlington, Virginia 20598. All visitors to the Navy League Building must pre-register to be admitted to the building. You may pre-register by contacting Mr. Burt Lahn listed in the FOR FURTHER INFORMATION CONTACT section below.

FOR FURTHER INFORMATION CONTACT: If you have questions about this meeting, please contact Mr. Mike Sollosi, the NAVSAC Alternate Designated Federal Officer (ADFO), by telephone at 202-372-1545 or via email at mike.m.sollosi@uscg.mil; or Mr. Burt Lahn, NAVSAC meeting coordinator, at telephone 202-372-1526 or email burt.a.lahn@uscg.mil. If you have questions on viewing or submitting material to the docket, call Barbara Hairston, Program Manager, Docket Operations, telephone 202-366-9826.

SUPPLEMENTARY INFORMATION: The Coast Guard's March 27, 2013 notice of the April 10-11 2013, NAVSAC meeting inadvertently failed to contain an explanation for its publication less than 15 calendar days prior to the meeting, as required by General Services Administration rules 41 CFR-102-3.150(b). The reason the notice was published only 14 calendar days prior to the meeting was an administrative delay. The Coast Guard regrets the delay in publication but notes that the notice was publicly available on the Federal Register Web site 16 calendar days prior to the meeting. Additionally, all known interested parties were made aware of the meeting with sufficient time for planning purposes.

It is critical that this meeting be held on the announced meeting date because delays in Council discussions could have significant ramifications for ongoing Coast Guard studies and evaluations on the agenda for the upcoming meeting. Maintaining the current meeting schedule allows the Coast Guard to continue deliberations and forward progress regarding multiple risk assessments for U.S. ports and waterways.

If you have been adversely affected by the delay in publishing the notice, contact Mr. Mike Sollosi or Mr. Burt Lahn (see FOR FURTHER INFORMATION CONTACT) and the Coast Guard will make every effort to accommodate you.

Dated: March 25, 2013.
Kathryn Sinniger,
Chief, Office of Regulations and Administrative Law, U.S. Coast Guard.

[FR Doc. 2013-07286 Filed 3-28-13; 8:45 am]

BILLING CODE 9110-04-P